DEPARTMENT OF THE INTERIOR

Fish and Wildlife Service

[FWS-R7-SM-2023-N084; FXFR1335070640-234-FF07J00000; OMB Control Number 1018-0075]

Agency Information Collection Activities; Submission to the Office of Management and Budget; Federal Subsistence Regulations and Associated Forms

AGENCY: Fish and Wildlife Service, Interior.

ACTION: Notice of information collection; request for comment.

SUMMARY: In accordance with the Paperwork Reduction Act of 1995, we, the U.S. Fish and Wildlife Service (Service), are proposing to renew a currently approved information collection, without change.

DATES: Interested persons are invited to submit comments on or before December 4, 2023.

ADDRESSES: Written comments and recommendations for the proposed information collection should be submitted within 30 days of publication of this notice at https://www.reginfo.gov/public/do/PRAMain. Find this particular information collection by selecting “Currently under Review—Open for Public Comments” or by using the search function. Please provide a copy of your comments to the Service Information Collection Clearance Officer, U.S. Fish and Wildlife Service, MS: PRB (JAO/3W), 5275 Leesburg Pike, Falls Church, VA 22041-3803 (mail); or by email to Info_Coll@fws.gov. Please reference “1018-0075” in the subject line of your comments.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA; 44 U.S.C. 3501 et seq.) and its implementing regulations in the Code of Federal Regulations (CFR) at 5 CFR 1320, all information collections require approval under the PRA. We may not conduct or sponsor and you are not required to respond to a collection of information unless it displays a currently valid OMB control number.

On February 27, 2023, we published in the Federal Register (88 FR 12285) a proposed rule (RIN 1018-BG72) containing a notice of our intent to request that OMB approve the existing and new information collections contained in that rulemaking. We solicited comments for 60 days, ending on April 28, 2023. We did not receive any comments addressing the information collection requirements contained in that proposed rule. The Service plans to publish the associated final rule, which will request OMB approval of the new information collections, in the spring of 2024. However, due to this collection expiring before the anticipated publication of that final rule, we are now requesting OMB approve an extension, without change, to this collection.

As part of our continuing effort to reduce paperwork and respondent burdens, we are again inviting the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your that your entire comment—including your personal identifying information—may be publicly available at any time. While you can ask us in your comment to withhold your personal identifying information from public review, we cannot guarantee that we will be able to do so.

Abstract: The Alaska National Interest Lands Conservation Act (ANILCA; 16 U.S.C. 3111-3126), and regulations in the Code of Federal Regulations (CFR) at 50 CFR part 100 and 36 CFR part 242, require persons engaged in taking fish, shellfish, and wildlife on public lands in Alaska for subsistence uses to apply for and obtain a permit to do so, and comply with reporting provisions of that permit.

We currently use four forms in the recruitment and selection of members for regional advisory councils:

• Form 3-2300, “Federal Subsistence Regional Advisory Council Membership Incumbent Application.”

• Form 3-2321, “Federal Subsistence Regional Advisory Council Membership Application/Nomination.”

• Form 3-2322, “Regional Advisory Council Candidate Interview.”

• Form 3-2323, “Regional Advisory Council Reference/Key Contact Interview.”

The member selection process begins with the information that we collect on the application. Ten interagency review panels interview all applicants and nominees, their references, and regional key contacts. These contacts are based on the information that the applicant provides on the application form. The information that we collect through the application form and subsequent interviews is the basis of the Federal Subsistence Board's recommendations to the Secretaries of the Interior and Agriculture for appointment and reappointment of council members.

We use the following forms to collect information from qualified rural residents for subsistence harvest:

• Form 3-2326, “Federal Subsistence Hunt Application, Permit, and Report.”

• Form 3-2327, “Designated Hunter Permit Application, Permit, and Report.”

• Form 3-2328, “Federal Subsistence Fishing Application, Permit, and Report.”

• Form 3-2378, “Designated Fishing Permit Application, Permit, and Report.”

• Form 3-2379, “Federal Subsistence Customary Trade Recordkeeping Form.”

We use the information collected to evaluate:

• Eligibility of applicant.

• Subsistence harvest success.

• Effectiveness of season lengths, harvest quotas, and harvest restrictions.

• Hunting patterns and practices.

• Hunter use.

The Federal Subsistence Board uses the harvest data, along with other information, to set future season dates and harvest limits for Federal subsistence resource users. These seasons and harvest limits are set to meet the needs of subsistence users without adverse impact to the health of existing animal populations.

In addition to the above forms, regulations at 50 CFR part 100 and 36 CFR part 242 contain requirements for the collection of information. We collect nonform information on:

• Repeal of Federal subsistence rules and regulations (50 CFR 100.14 and 36 CFR 242.14).

• Proposed changes to Federal subsistence regulations (50 CFR 100.18 and 36 CFR 242.18).

• Special action requests (50 CFR 100.19 and 36 CFR 242.19).

• Requests for reconsideration (50 CFR 100.20 and 36 CFR 242.20).

• Requests for permits and reports, such as traditional religious/cultural/educational permits, fishwheel permits, fyke net permits, and under-ice permits (50 CFR 100.25-27 and 36 CFR 242.25-27).

Title of Collection: Federal Subsistence Regulations and Associated Forms, 50 CFR 100 and 36 CFR 242.

OMB Control Number: 1018-0075.

Form Numbers: FWS Forms 3-2300, 3-2321 through 3-2323, 3-2326 through 3-2328, and 3-2378 through 3-2379.

Type of Review: Extension of the currently approved collection.

Respondents/Affected Public: Individuals; private sector; and State, local, and Tribal governments. Most respondents are individuals who are federally defined rural residents in Alaska.

Total Estimated Number of Annual Respondents: 15,242.

Total Estimated Number of Annual Responses: 15,242.

Estimated Completion Time per Response: Varies from 15 minutes to 4 hours, depending on activity.

Total Estimated Number of Annual Burden Hours: 6,769.

Respondent's Obligation: Required to obtain or retain a benefit.

Frequency of Collection: On occasion.

Total Estimated Annual Nonhour Burden Cost: None.

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2023-24376 Filed 11-2-23; 8:45 am]

BILLING CODE 4333-15-P